DEPARTMENT OF LABOR

Office of Workers' Compensation Programs

Division of Energy Employees Occupational Illness Compensation Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning the proposed collection: Energy Employees Occupational Illness Compensation Program Act Forms (Forms EE-1, EE-2, EE-3, EE-4, EE-7, EE-8, EE-9, EE-10, EE-11A, EE-11B, EE-12, EE-13, EE-16, EE-20). A copy of the proposed information collection request can be obtained by contacting the office listed below in the addresses section of this Notice.

DATES: Written comments must be submitted to the office listed in the addresses section below on or before May 7, 2010.

ADDRESSES: Mr. Vincent Alvarez, U.S. Department of Labor, 200 Constitution Ave., NW., Room S-3201, Washington, DC 20210, telephone (202) 693-0372, fax (202) 693-1378, e-mail Alvarez.Vincent@dol.gov. Please use only one method of transmission for comments (mail, fax, or e-mail).

SUPPLEMENTARY INFORMATION: I. Background: The Office of Workers' Compensation Programs (OWCP) is the primary agency responsible for the administration of the Energy Employees Occupational Illness Compensation Program Act of 2000, as amended (EEOICPA or Act), 42 U.S.C. 7384 et seq. The Act provides for timely payment of compensation to covered employees and, where applicable, survivors of such employees, who sustained either “occupational illnesses” or “covered illnesses” incurred in the performance of duty for the Department of Energy and certain of its contractors and subcontractors. The Act sets forth eligibility criteria for claimants for compensation under Part B and Part E of the Act, and outlines the various elements of compensation payable from the Fund established by the Act. The information collections in this ICR collect demographic, factual and medical information needed to determine entitlement to benefits under the EEOICPA. This information collection is currently approved for use through August 31, 2010.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks approval for the revision of this information collection in order to carry out its responsibility to determine a claimant's eligibility for compensation under the EEOICPA.

Type of Review: Revision.

Agency: Office of Workers' Compensation Programs.

Title: Energy Employees Occupational Illness Compensation Act Forms (various).

OMB Number: 1240-0197.

Agency Number: EE-1, EE-2, EE-3, EE-4, EE-7, EE-8, EE-9, EE-10, EE-11A, EE-11B, EE-12, EE-13, EE-16 and EE-20.

Affected Public: Individuals or households; Business or other for-profit.

Total Respondents: 57,175.

Total Responses: 57,384.

Estimated Total Burden Hours: 21,729.

Total Burden Cost (capital/startup): $0.

Total Burden Cost (operating/maintenance): $22,781.37.

Comments submitted in response to this notice will be summarized and/or included in the request for Office of Management and Budget approval of the information collection request; they will also become a matter of public record.

Dated: March 2, 2010.
Vincent Alvarez,
Agency Clearance Officer, Office of Workers' Compensation Programs, U.S. Department of Labor.

[FR Doc. 2010-4793 Filed 3-5-10; 8:45 am]

BILLING CODE 4510-CR-P